DEPARTMENT OF TRANSPORTATION

Federal Aviation Administration

14 CFR Part 39

[Docket No. 99-NM-288-AD; Amendment 39-12530; AD 2001-24-13]

RIN 2120-AA64

Airworthiness Directives; McDonnell Douglas Model DC-9-10, -20, -30, and -40 Series Airplanes

AGENCY: Federal Aviation Administration, DOT.

ACTION: Final rule.

SUMMARY: This amendment adopts a new airworthiness directive (AD), applicable to certain McDonnell Douglas Model DC-9-10, -20, -30, and -40 series airplanes, that requires rework and reidentification of certain reflector assemblies of the passenger ceiling lights; and installation of a support channel above the reflector, as applicable. This amendment is prompted by reports of heat damaged lamp reflectors and scorched insulation blankets in the main cabin due to the lamps inside the reflectors creating high temperatures. The actions specified by this AD are intended to prevent overheating of the lamp reflectors, which could result in smoke and fire in the main cabin.

DATES: Effective January 16, 2002.

The incorporation by reference of certain publications listed in the regulations is approved by the Director of the Federal Register as of January 16, 2002.

ADDRESSES: The service information referenced in this AD may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Elvin Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION: A proposal to amend part 39 of the Federal Aviation Regulations (14 CFR part 39) to include an airworthiness directive (AD) that is applicable to certain McDonnell Douglas Model DC-9-10, -20, -30, and -40 series airplanes was published in the Federal Register on July 23, 2001 (66 FR 38168). That action proposed to require rework and reidentification of certain reflector assemblies of the passenger ceiling lights; and installation of a support channel above the reflector, as applicable. The proposed actions were intended to prevent overheating of the lamp reflectors, which could result in smoke and fire in the main cabin.

Since the Issuance of the NPRM

The FAA has been advised by the manufacturer that there may be a problem in supplying an adequate number of kits to rework reflector assemblies within the 1-year compliance time proposed in the NPRM. Consequently, we have extended the compliance time of paragraph (a) of this AD (which requires rework and reidentification of the reflector assemblies of the passenger ceiling lights and the installation of a support channel above the reflector) to within 18 months after the effective date of this AD. We have determined that such an extension of the compliance time will accommodate the time necessary for affected operators to order, obtain, and rework and identify the reflector assemblies, without adversely affecting safety.

Comments Received

Interested persons have been afforded an opportunity to participate in the making of this amendment. Due consideration has been given to the comments received.

Requests To Revise the Applicability

Two commenters request that the applicability of the proposed AD be revised to specify that the requirements would apply only to airplanes with certain parts installed. One commenter notes that it has replaced the interior of its Model DC-9 fleet with new overhead lighting, and that the interior no longer has the same parts or even the same technology as that specified in McDonnell Douglas Alert Service Bulletin DC9-33A037, Revision 02, dated July 27, 1999 (the appropriate service information specified in the proposed AD). That same commenter suggests that the applicability be revised to specify that the proposed AD would apply only to airplanes that are still using the original Douglas lamp, reflector, and resistor assemblies.

The FAA does not concur with the requests to revise the applicability of the AD. The FAA generally makes every effort to limit the applicability of ADs as close as possible to the actual affected airplanes. The applicability of this final rule is based on information stated in the manufacturer's service bulletin at the time the service bulletin was published (July 27, 1999). Furthermore, it would be virtually impossible to address every conceivable alteration of airplane structure in the applicability of an AD, or to revise an AD's applicability every time an alteration of structure is approved. Since airplanes with altered structures are the exception, not the norm, it is more practical from a workload and cost-effectiveness standpoint to make ADs applicable generally to the affected fleet and to deal with special considerations individually. In the commenter's particular case, where airplanes have been modified so that it could be demonstrated that an unsafe condition does not exist, the operator may simply request approval of an alternative method of compliance to the AD in accordance with the provisions specified in paragraph (b) of this AD. No change to the final rule is necessary in this regard.

Conclusion

After careful review of the available data, including the comments noted above, the FAA has determined that air safety and the public interest require the adoption of the rule with the change described previously. The FAA has determined that this change will neither increases the economic burden on any operator nor increases the scope of the AD.

Cost Impact

There are approximately 273 Model DC-9-10, -20, -30, and -40 series airplanes of the affected design in the worldwide fleet. The FAA estimates that 177 airplanes of U.S. registry will be affected by this AD, that it will take between 8 and 12 work hours per airplane to accomplish the required actions, and that the average labor rate is $60 per work hour. Required parts will cost between $1,607 and $6,463 per airplane. Based on these figures, the cost impact of the AD on U.S. operators is estimated to be between $369,399 and $1,271,391, or between $2,087 and $7,183 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-24-13 McDonnell Douglas: Amendment 39-12530. Docket 98-NM-288-AD.

Applicability: Model DC-9-10, -20, -30, and -40 series airplanes, as listed in McDonnell Douglas Alert Service Bulletin DC9-33A037, Revision 02, dated July 27, 1999; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent overheating of the lamp reflectors, which could result in smoke and fire in the main cabin, accomplish the following:

Modification

(a) Within 18 months after the effective date of this AD, rework and reidentify the reflector assemblies of the passenger ceiling lights and install a support channel above the reflector, as applicable, in accordance with McDonnell Douglas Alert Service Bulletin DC9-33A037, Revision 02, dated July 27, 1999.

Note 2: Rework and reidentification of reflector assemblies, and installation of support channels prior to the effective date of this AD in accordance with McDonnell Douglas Service Bulletin DC9-33-037, dated July 18, 1968, or Revision 1, dated May 6, 1971, is an acceptable method of compliance for the requirements of paragraph (a) of this AD.

Alternative Methods of Compliance

(b) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 3: Information concerning the existence of approved alternative methods of compliance with this AD, if any, may be obtained from the Los Angeles ACO.

Special Flight Permit

(c) Special flight permits may be issued in accordance with sections 21.197 and 21.199 of the Federal Aviation Regulations (14 CFR 21.197 and 21.199) to operate the airplane to a location where the requirements of this AD can be accomplished.

Incorporation by Reference

(d) The actions shall be done in accordance with McDonnell Douglas Alert Service Bulletin DC9-33A037, Revision 02, dated July 27, 1999. This incorporation by reference was approved by the Director of the Federal Register in accordance with 5 U.S.C. 552(a) and 1 CFR part 51. Copies may be obtained from Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(e) This amendment becomes effective on January 16, 2002.

Issued in Renton, Washington, on November 28, 2001.
Vi L. Lipski,
Manager, Transport Airplane Directorate, Aircraft Certification Service.

[FR Doc. 01-30189 Filed 12-11-01; 8:45 am]

BILLING CODE 4910-13-P